DEPARTMENT OF COMMERCE

Foreign-Trade Zones Board

[Docket 26-2002]

Foreign-Trade Zone 122—Corpus Christi, TX; Application for Subzone Status, Kiewit Offshore Services, Ltd. (Offshore Drilling Platforms)

An application has been submitted to the Foreign-Trade Zones Board (the Board) by the Port of Corpus Christi Authority, grantee of FTZ 122, requesting special-purpose subzone status for the offshore drilling platform manufacturing facility of Kiewit Offshore Services, Ltd., (KOS), in Ingleside, Texas. The application was submitted pursuant to the provisions of the Foreign-Trade Zones Act, as amended (19 U.S.C. 81a-81u), and the regulations of the Board (15 CFR Part 400). It was formally filed on June 3, 2002.

The KOS facility (400 acres, 282,000 sq.ft.) is located along the north shore of Corpus Christi Bay at 2440 Kiewit Road in Ingleside, Texas. The facility is used for the construction, fabrication, and repair of offshore floating and fixed oil drilling platforms and components thereof for domestic and international customers. Foreign components that may be used at the KOS facility (representing up to 95% of material value) include structures of iron or steel, stranded wire, gas turbines, gas compressors, steel mill products, electrical motors, and generators (2002 general duty rate range: free—6.7%, ad valorem).

FTZ procedures would exempt KOS from Customs duty payments on the foreign components (except steel mill products) used in export activity. On its domestic sales, the company would not be required to pay applicable Customs duties on the foreign components, or it would be able to choose the duty rate that applies to finished offshore drilling platforms (duty free) for the foreign-origin components noted above except for steel mill products. The manufacturing activity conducted under FTZ procedures would be subject to the “standard shipyard restriction” applicable to foreign-origin steel mill products (e.g., angles, pipe, plate), which requires that full Customs duties be paid on such items. The application indicates that the savings from FTZ procedures would help improve the facility's international competitiveness.

In accordance with the Board's regulations, a member of the FTZ Staff has been designated examiner to investigate the application and report to the Board.

Public comment on the application is invited from interested parties. Submissions (original and three copies) shall be addressed to the Board's Executive Secretary at the following addresses:

1. Submissions via Express/Package Delivery Services: Foreign-Trade Zones Board, U.S. Department of Commerce, Franklin Court Building-Suite 4100W, 1099 14th Street, NW., Washington, DC 20005; or,

2. Submissions via the U.S. Postal Service: Foreign-Trade Zones Board, U.S. Department of Commerce, FCB-4100W, 1401 Constitution Ave., NW., Washington, DC 20230.

The closing period for their receipt is August 12, 2002. Rebuttal comments in response to material submitted during the foregoing period may be submitted during the subsequent 15-day period (to August 26, 2002).

A copy of the application will be available for public inspection at the Office of the Foreign-Trade Zones Board's Executive Secretary at address No.1 listed above and at the Office of the Port Director, U.S. Customs Service, Suite 570, 555 North Carancahua Street, Corpus Christi, TX 78401.

Dated: June 3, 2002.
Dennis Puccinelli,
Executive Secretary.

[FR Doc. 02-14836 Filed 6-11-02; 8:45 am]

BILLING CODE 3510-DS-P